ENVIRONMENTAL PROTECTION AGENCY

[FRL-9995-20-Region 10]

Reissuance of NPDES General Permit for Offshore Seafood Processors in Alaska (AKG524000)

AGENCY: Environmental Protection Agency (EPA).

ACTION: Reissuance of final NPDES General Permit.

SUMMARY: The Director of the Water Division, EPA Region 10, is reissuing a National Pollutant Discharge Elimination System (NPDES) General Permit to Offshore Seafood Processors in Alaska. The General Permit authorizes discharges of seafood processing waste from facilities (also referred to as “vessels”) that discharge at least 3 nautical miles (NM) or greater from the Alaska shore as delineated by mean lower low water (MLLW) or a closure line; and which engage in the processing of fresh, frozen, canned, smoked, salted or pickled seafood, the processing of mince, or the processing of meal, paste and other secondary by-products.

DATES: The issuance date of the General Permit is June 17, 2019. The General Permit will become effective July 17, 2019.

ADDRESSES: Copies of the General Permit and Response to Comments are available upon request at the following address: USEPA Region 10, 1200 Sixth Avenue, Suite 155, WD-19-C04, Seattle, WA 98101-3188. Electronic requests may be mailed to: Washington.audrey@epa.gov.

FOR FURTHER INFORMATION CONTACT: Permit documents may be found on the EPA Region 10 website at: https://www.epa.gov/npdes-permits/npdes-general-permit-offshore-seafood-processors-alaska. Copies of the general permit, Fact Sheet and Response to Comments are also available upon request. Requests may be made to Audrey Washington at (206) 553-0523 or to Joseph Ziobro at (206) 553-2723. Requests may also be electronically mailed to: washington.audrey@epa.gov, or ziobro.joseph@epa.gov.

SUPPLEMENTARY INFORMATION:

I. General Information

There are currently fewer than 100 permitted seafood processors that discharge effluent and operate more than 3 NM from the Alaskan shore or closure line. Most of the seafood processed on the vessels are pollock and Pacific cod. Other species have included sablefish, arrowtooth flounder, Pacific hake, jack mackerel, Alaska plaice, Pacific Ocean perch, rockfish, sculpin, lumpsucker, skate, sole, Greenland turbot, bairdi, opilio, and king crab. The permit authorizes the discharge of seafood processing wastes that are mostly waste solids (shell, bones, skin, scales, flesh and organs), blood, body fluids, slime, oils and fats from cooking and rendering operations; disinfectants; and miscellaneous wastewaters. This Permit does not authorize the discharge of pollutants from any shore-based facilities, nor any pollutants from vessels transporting seafood processing waste solely for the purpose of dumping materials into ocean waters. The median annual waste discharged from a vessel in 2014 and 2015 was 7.1 and 6.2 million pounds, respectively.

Facilities will receive a written notification from the EPA whether permit coverage and authorization to discharge under the general permit is approved.

The draft Permit, Fact Sheet, Ocean Discharge Criteria Evaluation, and associated Permit forms were made available for a 45-day public comment from March 25, 2019 to May 9, 2019. The EPA received comments from the At-Sea Processors Association, the Groundfish Forum, and the Freezer Longline Coalition. As a result of comments, the EPA modified Section V.B.4 of the permit to reduce the number of representative pictures required quarterly from four to at least one. The EPA prepared a Response to Comment document, which is available on EPA's website at: https://www.epa.gov/npdes-permits/npdes-general-permit-offshore-seafood-processors-alaska.

The EPA has prepared a Biological Evaluation for this Permit action. Consultations under the Endangered Species Act between the EPA and the U.S. Fish and Wildlife Service (USFWS) have been completed. The EPA has not yet completed consultation with NMFS. On June 1, 2019, NMFS provided the EPA with an excerpt from their Draft Incidental Take Statement for the Biological Opinion (BO) on EPA's Proposed Reissuance of General Permit AKG524000 for Offshore Seafood Processors in Alaska, which included draft Reasonable and Prudent Measures (RPMs). NMFS indicated to the EPA that, while the agency would not be able to issue a final BO prior to Permit issuance, their final BO will include final RPMs for the Western Distinct Population Segment Steller Sea Lions (DPS SSLs). As such, the EPA has incorporated the draft RPMs from NMFS as final permit conditions, resulting in changes to the Daily Sea Surface Visual Monitoring Requirements and a change to an Effluent Limitation Requirement. The Sea Surface Visual Monitoring Requirements in Section VI.C. of the Permit have been modified to include a required Steller sea lion visual monitoring program for any vessel discharging unground waste. The Effluent Limitation Requirement at V.A.3. has been modified to require that in all waters west of 144° West longitude, the discharge of any unground waste must cease whenever Steller sea lion(s) are present within 250 meters in any direction of the vessel(s).

The EPA is issuing the final permit pending completion of ESA consultation, consistent with Section 7(d) of the Endangered Species Act. The EPA does not believe that issuing this permit pending the completion of consultation poses interim risks of concern to Western DPS SSLs, and if further consultation with NMFS were to reveal new information that the EPA determines warrants modification to the permit to protect listed species or critical habitat, the EPA has authority to take appropriate action to modify the permit pursuant to 40 CFR 122.62(a)(2).

II. Other Legal Requirements

This action is not significant and was therefore not submitted to the Office of Management and Budget (OMB) for review under Executive Orders 12866, Regulatory Planning and Review, and 13563, Improving Regulation and Regulatory Review.

Dated: June 7, 2019.
Angela Chung,
Associate Director, Water Division, Region 10.

[FR Doc. 2019-12765 Filed 6-14-19; 8:45 am]

BILLING CODE 6560-50-P